DEPARTMENT OF HEALTH AND HUMAN SERVICES

Office of the Assistant Secretary for Health; Opportunity To Co-Sponsor OASH-Supported Grantee Workshops

AGENCY: Office of the Assistant Secretary for Health, HHS.

ACTION: Notice.

SUMMARY: The Grants and Acquisitions Management Division (GAM) in the Office of the Assistant Secretary for Health (OASH), in conjunction with the grant making program offices it supports, announces the opportunity for non-federal public and private sector entities to co-sponsor OASH-supported grants workshops (OASH Grants Workshops). Potential co-sponsors must have a demonstrated interest and experience in building capacity among potential grant applicants and grant recipients. Potential co-sponsors must be willing to participate substantively in the co-sponsored activity. Expressions of interest for co-sponsorships of OASH Grants Workshops are received throughout the year at the email address below. OASH intends to co-sponsor a limited number of workshops with other entities each year. Expressions of interest are being received for OASH Grants Workshops that will take place in the next fiscal year (October 2022 through September 2023) or beyond. Expressions of interest for co-sponsorships should be sent by email to OASH_Grants@HHS.GOV with “Co-sponsorship for OASH-supported Grants Workshops” in the subject field or by mail to Duane Barlow, Grants Branch Chief, OASH, Grants and Acquisitions Management Division, at 1101 Wootton Parkway, Plaza Level, Rockville, MD 20852.

FOR FURTHER INFORMATION CONTACT: Duane Barlow, Grants Branch Chief, OASH, Grants and Acquisitions Management Division, 1101 Wootton Parkway, Plaza Level, Rockville, MD 20852; or via phone (240) 453-8822.

SUPPLEMENTARY INFORMATION: The OASH Grants and Acquisitions Management (GAM) Division oversees, administers, and supports grant-making activities of public health offices on behalf of the Secretary of the U.S. Department of Health and Human Services (HHS). The grant-making program offices that GAM supports include: the Office of Infectious Disease and HIV/AIDS Policy (OIDP), Office of Minority Health (OMH), Office of Population Affairs (OPA), Office of Research Integrity (ORI), and Office on Women's Health (OWH). Another OASH component, the Office of Regional Health Operations (ORHO), which includes ten Regional Offices covering all states and territories of the United States and three independent states in the Pacific, through its coordinating function will also be involved in the OASH Grants Workshops.

Consistent with each office's mission and applicable statutory authority, the OASH Grants Workshops aim to build capacity among potential grant applicants and grant recipients in related areas such as applying for and managing grants and cooperative agreements (collectively grants) awarded under the programs listed by Assistance Listing number below:

• 93.007 Public Awareness Campaigns on Embryo Adoption

• 93.085 Research on Research Integrity

• 93.088 Advancing System Improvements for Key Issues in Women's Health

• 93.137 Community Programs to Improve Minority Health Grant Program

• 93.217 Family Planning Services

• 93.260 Family Planning Personnel Training

• 93.297 Teenage Pregnancy Prevention Program

• 98.343 Public Health Service Evaluation Funds

• 93.344 Research, Monitoring and Outcomes Definitions for Vaccine Safety

• 93.974 Family Planning Service Delivery Improvement Research Grants

Full Assistance Listing descriptions are published and updated annually on https://sam.gov. Co-sponsors will work with OASH/GAM staff to jointly develop an event. Both OASH and the co-sponsor must contribute substantively to the development of the event.

OASH Grants Workshops may be convened over one to three days; conducted virtually, in-person, or in a hybrid format (virtual and in-person). Depending on the workshop format and scope, a workshop may typically accommodate between 100 and 500 attendees.

Co-sponsors can charge registration fees to recover costs associated with the events; however, co-sponsors may not set registration fees at an amount higher than necessary to recover related event expenses. Further, co-sponsors are solely responsible for collecting and handling any registration fees collected.

Eligibility for Co-Sponsorship: The co-sponsoring entity must have a demonstrated interest and experience in building capacity among potential grant applicants and grant recipients, particularly with respect to programs supported by GAM. The co-sponsoring entity must participate substantively in the co-sponsored activity, not just provide funding, logistical services, or other material support.

Each potential co-sponsorship's expression of interest shall describe:

(1) The entity's interest in building capacity among potential grant applicants and grant recipients,

(2) The entity's prior experience and current readiness to undertake the responsibilities described above,

(3) The type of event(s) that the entity is interested in co-sponsoring with GAM,

(4) Facilities and/or virtual platforms available for the event(s), and

(5) Any current constraints with respect to dates or facilities.

The type of event may be a special topic of mutual interest with one or more of the aforementioned GAM supported program offices and may be developed jointly.

The expression of interest should be a bulleted outline, no more than two pages in length, single-spaced, and 11-point font. An entity may submit an expression of interest individually or jointly with other entities describing their relative contributions.

Evaluation Criteria: After engaging in exploratory discussions with potential co-sponsors that respond to this notice, the following considerations will be used by HHS officials, as appropriate and relevant, to select the co-sponsor(s):

• Qualifications and capability to fulfill co-sponsorship responsibilities

• Suitability of the location of the proposed OASH Grants Workshops in terms of the overall geographical distribution of OASH Grants Workshops

• Potential for reaching, generating, and engaging an adequate number of attendees who may be potential grant applicants and grant recipients

• Availability and description of facilities and resources needed to support the OASH Grants Workshop

• Availability of administrative support for the logistics of hosting such OASH Grants Workshops

These duties will be outlined in a co-sponsorship agreement with GAM and the sponsoring program office(s) that will set forth the details of the co-sponsored activity, including the requirements that any fees collected by the co-sponsor shall be limited to the amount necessary to cover the co-sponsor's related event expenses. This co-sponsorship agreement does not represent an endorsement by HHS, OASH, GAM or its supported program office(s) of an individual co-sponsor's policies, positions, or activities. Additionally, this agreement will not affect any determination concerning activities by the co-sponsors that are regulated by GAM's grant-supporting offices.

Dated: November 14, 2022.
Scott J. Moore,
Director, Grants and Acquisitions Management Division, Office of the Assistant Secretary for Health.

[FR Doc. 2022-25259 Filed 11-18-22; 8:45 am]

BILLING CODE 4150-28-P